DEPARTMENT OF ENERGY

Federal Energy Regulatory Commission

[Docket No. IC00-588-001, FERC-588]

Information Collection Submitted for Review and Request for Comments

December 12, 2000.

AGENCY: Federal Energy Regulatory Commission.

ACTION: Notice of submission for review by the Office of Management and Budget (OMB) and request for comments.

SUMMARY: The Federal Regulatory Commission (Commission) has submitted the energy information collection listed in this notice to the Office of Management and Budget (OMB) for review under provisions of Section 3507 of the Paperwork Reduction Act of 1995 (Pub. L. 104-13). Any interested person may file comments on the collection of information directly with OMB and should address a copy of those comments to the commission, as explained below. The Commission received no comments in response to an earlier Federal Register notice of September 5, 2000 (65 FR 53709) and made this notation in its submission to OMB.

DATES: Comments regarding this collection are best assured of having their full effect if received on or before January 17, 2001.

ADDRESSES: Address comments to Office of Management and Budget, Office of Information and Regulatory Affairs, Attention: Federal Energy Commission Desk Officer, 725 17th Street NW., Washington, DC 20503. A copy of the comments should also be sent to Federal Energy Regulatory Commission, Office of the Chief Information Officer, Attention: Mr. Michael Miller, 888 First Street, NE., Washington, DC 20426. Mr. Miller may be reached by telephone at (202) 208-1415 and by e-mail at mike.miller@ferc.fed.us.

SUPPLEMENTARY INFORMATION:

Description

The energy information collection submitted to OMB for review contains:

1. Collection of Information: FERC-588, “Emergency Natural Gas Transportation, Sale and Exchange Transactions.”

2. Sponsor: Federal Energy Regulatory Commission.

3. Control No.: 1902-0144. The Commission is requesting reinstatement, with change, of the previously approved data collection for which approval expired July 31, 2000, and a three-year approval of the collection of data. This is a mandatory information collection requirement and the Commission does not consider the information to be confidential.

4. Necessity of Collection of information: Submission of the information is necessary to enable the Commission to carry out its responsibilities in implementing provisions of Section 7(c) of the Natural Gas Act (Pub. L. 75-688) and provisions of the Natural Gas Policy Act of 1978 (NGPA).

Under the NGA, a natural gas company must obtain Commission approval to engage in the transportation, sale or exchange of natural gas in interstate commerce. However, section 7(c) exempts from certificate requirements “temporary acts or operations for which the issuance of a certificate will not be required in the public interest.” The NGPA also provides for non-certificated interstate transactions involving intrastate pipelines and local distribution companies.

A temporary operation, or emergency, is defined as any situation in which an actual or expected shortage of gas supply would require an interstate pipeline company, intrastate pipeline, or local distribution company, or Hinshaw pipeline to curtail deliveries of gas or provide less than the projected level of service to the customer. The natural gas companies file the necessary information with the Commission so that it may determine if the transaction/operation qualifies for exemption. A report within forty-eight hours of the commencement of the transportation, sale or exchange, or a request to extend the sixty-day term of the emergency transportation if needed, and a termination report are required. The data required to be filed for the forty-eight hour report is specified by 18 CFR 284.270.

5. Respondent Description: The respondent universe currently comprises approximately 15 natural gas pipeline companies.

6. Estimated Burden: 150 total burden hours, 15 respondents, 15 responses annually, 10 hours per response.

Statutory Authority: Section 7(c) of the NGA (15 U.S.C. 717-717w) and provisions of NGPA (15 U.S.C. 3301-3432).

David P. Boergers,
Secretary.

[FR Doc. 00-32084 Filed 12-15-00; 8:45 am]

BILLING CODE 6717-01-M